DEPARTMENT OF COMMERCE

Bureau of Industry and Security

Ribway Airlines Company Limited, 54 Kairaba Avenue, Kanifing Municipality, WCR, The Gambia; John Edward Meadows, 50 St. Leonards Road, Bexhill on Sea, East Sussex, TN40 1JB, United Kingdom, Jeffrey John James Ashfield, 50 St. Leonards Road, Bexhill on Sea, East Sussex, TN40 1JB, United Kingdom; AC AVIATIE UK Limited, f/k/a Bin Vali Aviation Limited, 50 St. Leonard's Road, Bexhill on Sea, East Sussex, TN40 1JB, United Kingdom, Respondents; Modification of March 1, 2016 Amended Temporary Denial Order

Pursuant to Section 766.24 of the Export Administration Regulations (the “Regulations” or “EAR”),¹ I hereby grant the request of the Office of Export Enforcement (“OEE”) to modify the Temporary Denial Order issued on January 19, 2016, as amended on March 1, 2016. OEE has requested that the following parties be removed from the TDO:

¹ The EAR are currently codified at 15 CFR parts 730-774 (2016). The EAR issued under the Export Administration Act of 1979, as amended 50 U.S.C. 4601-4623 (Supp. III 2015) (available at http://uscode.house.gov) (“EAA” or the “Act”). Since August 21, 2001, the Act has been in lapse and the President, through Executive Order 13222 of August 17, 2001 (3 CFR, 2001 Comp. 783 (2002)), which has been extended by successive Presidential Notices, the most recent being that of August 7, 2015 (80 FR 48,223 (Aug. 11, 2015)), has continued the Regulations in effect under the International Emergency Economic Powers Act (50 U.S.C. 1701, et seq. (2006 & Supp. IV 2010)).

moreJet Ltd., 60 Brackendale Road, Bournemouth, BH8 9HZ, United Kingdom;

Castle Malwood, Minstead, Lyndhurst, Hampshire, SO43 7PE, United Kingdom;

Stefan Piotr Kondak, a/k/a Stefan Peter Kondak, 150 Broadway, Bournemouth, Dorset, BH6 4EC, United Kingdom;

60 Brackendale Road, Bournemouth, BH8 9HZ, United Kingdom;

Castle Malwood, Minstead, Lyndhurst, Hampshire, SO43 7PE, United Kingdom.

On January 19, 2016, I signed the original TDO, denying for 180 days the export privileges of Ribway Airlines Company Limited (“Ribway Airlines”), John Edward Meadows, Jeffrey John James Ashfield, Af-Aviation Limited, and Andy Farmer (Af-Aviation's director). The TDO was issued ex parte pursuant to Section 766.24(a) and went into effect upon issuance on January 19, 2016.²

² The January 19, 2016 TDO was published in the Federal Register on January 26, 2016. 81 FR 4250 (Jan. 26, 2016).

The TDO issued based upon evidence presented by OEE concerning an attempt to ferry or reexport two Boeing 737 aircraft, with manufacturer serial numbers 26444 and 26458, respectively, from Romania to Iran without the U.S. Government authorization required by Sections 742.8 and 746.7 of the EAR.³ Subsequently, on March 1, 2016, I amended the TDO by adding AC AVIATIE UK Limited, formerly known as Bin Vali Aviation Limited, moreJet Ltd., and Stefan Piotr Kondak to the TDO as additional respondents based upon evidence obtained by OEE subsequent to original issuance of the TDO.⁴ The original TDO issued on January 19, 2016, and the amended TDO issued on March 1, 2016, are incorporated herein by reference.

³ Both Boeing 737s are subject to the EAR and are classified under Export Control Classification Number (“ECCN”) 9A991.b and are controlled for anti-terrorism reasons.

⁴ The March 1, 2016 amended TDO was published in the Federal Register on March 9, 2016. 81 FR 12459 (March 9, 2016). The March 1, 2016 amended TDO also removed Af-Aviation Limited and Andy Farmer as respondents.

Having considered OEE's request, I find that moreJet Ltd. and Stefan Piotr Kondak should be removed from the TDO. The TDO shall remain in full force and effect as to Ribway Airlines Company Limited, John Edward Meadows, Jeffrey John James Ashfield, and AC AVIATIE UK Limited.

It is therefore ordered:

First, that Ribway Airlines Company Limited, 54 Kairaba Avenue, Kanifing Municipality, WCR, The Gambia; John Edward Meadows, 50 St. Leonards Road, Bexhill on Sea, East Sussex, TN40 1JB, United Kingdom; Jeffrey John James Ashfield, 50 St. Leonards Road, Bexhill on Sea, East Sussex, TN40 1JB, United Kingdom; and AC Aviatie UK Limited, F/K/A BIN Vali Aviation Limited, 50 St. Leonard's Road, Bexhill on Sea, East Sussex, TN40 1JB, United Kingdom, and when acting for or on their behalf, any successors or assigns, agents, or employees (each a “Denied Person” and collectively the “Denied Persons”) may not, directly or indirectly, participate in any way in any transaction involving any commodity, software or technology (hereinafter collectively referred to as “item”) exported or to be exported from the United States that is subject to the Export Administration Regulations (“EAR”), or in any other activity subject to the EAR including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the EAR, or in any other activity subject to the EAR; or

C. Benefitting in any way from any transaction involving any item exported or to be exported from the United States that is subject to the EAR, or in any other activity subject to the EAR.

Second, that no person may, directly or indirectly, do any of the following:

A. Export or reexport to or on behalf of a Denied Person any item subject to the EAR;

B. Take any action that facilitates the acquisition or attempted acquisition by a Denied Person of the ownership, possession, or control of any item subject to the EAR that has been or will be exported from the United States, including financing or other support activities related to a transaction whereby a Denied Person acquires or attempts to acquire such ownership, possession or control;

C. Take any action to acquire from or to facilitate the acquisition or attempted acquisition from a Denied Person of any item subject to the EAR that has been exported from the United States;

D. Obtain from a Denied Person in the United States any item subject to the EAR with knowledge or reason to know that the item will be, or is intended to be, exported from the United States; or

E. Engage in any transaction to service any item subject to the EAR that has been or will be exported from the United States and which is owned, possessed or controlled by a Denied Person, or service any item, of whatever origin, that is owned, possessed or controlled by a Denied Person if such service involves the use of any item subject to the EAR that has been or will be exported from the United States. For purposes of this paragraph, servicing means installation, maintenance, repair, modification or testing.

Third, that, after notice and opportunity for comment as provided in section 766.23 of the EAR, any other person, firm, corporation, or business organization related to a Denied Person by affiliation, ownership, control, or position of responsibility in the conduct of trade or related services may also be made subject to the provisions of this Order.

In accordance with the provisions of Section 766.24(e) of the EAR, the Respondents may, at any time, appeal this Order by filing a full written statement in support of the appeal with the Office of the Administrative Law Judge, U.S. Coast Guard ALJ Docketing Center, 40 South Gay Street, Baltimore, Maryland 21202-4022.

In accordance with the provisions of Section 766.24(d) of the EAR, BIS may seek renewal of this Order by filing a written request not later than 20 days before the expiration date. The Respondents may oppose a request to renew this Order by filing a written submission with the Assistant Secretary for Export Enforcement, which must be received not later than seven days before the expiration date of the Order.

A copy of this Order shall be served on Ribway Airlines Company Limited, John Edward Meadows, Jeffrey John James Ashfield, AC Aviatie UK Limited, moreJet Ltd., and Stefan Piotr Kondak, and shall be published in the Federal Register.

This Order is effective immediately and shall remain in effect until July 17, 2016, unless renewed in accordance with Section 766.24(d) of the Regulations.

Dated: June 15, 2016.
David W. Mills,
Assistant Secretary of Commerce for Export Enforcement.

[FR Doc. 2016-14748 Filed 6-21-16; 8:45 am]

BILLING CODE P